DEPARTMENT OF HOMELAND SECURITY

Coast Guard

33 CFR Part 117

[CGD08-06-013]

RIN 1625-AA09

Drawbridge Operation Regulation; Illinois Waterway, Illinois

AGENCY: Coast Guard, DHS.

ACTION: Supplemental notice of proposed rulemaking.

SUMMARY: The Coast Guard has revised its proposal to change the operation of the Pekin Railroad Drawbridge, Mile 151.2, at Pekin, Illinois and the Chessie Railroad Drawbridge, Mile 254.1 at Seneca, Illinois across Illinois Waterway. The present regulation requires revision to reflect the actual procedures that have always been followed. The current regulation was intended to be temporary, for test purposes only, and was inadvertently permanently included. The revision would eliminate the “Specific Requirements” for remote operation and the bridge would continue to operate, as required by the Coast Guard, under the “General Requirements”. In addition the Coast Guard proposes to change the regulation governing the operation of the Chessie Railroad Drawbridge across the Illinois Waterway, Mile 254.1, at Seneca, Illinois. The existing regulation requires the drawspan to open on signal. This change is necessary to reflect a change in operating procedure.

DATES: Comments and related material must reach the Coast Guard on or before January 16, 2007.

ADDRESSES: You may mail comments and related material to Commander, Eighth Coast Guard District, Bridge Branch, 1222 Spruce Street, St. Louis, MO 63103-2832. Commander (dwb) maintains the public docket for this rulemaking. Comments and material received from the public, as well as documents indicated in this preamble as being available in the docket, will become part of this docket and will be available for inspection or copying at room 2.107f in the Robert A. Young Federal Building, Eighth Coast Guard District, between 8 a.m. and 4 p.m., Monday through Friday, except Federal holidays.

FOR FURTHER INFORMATION CONTACT: Mr. Roger K. Wiebusch, Bridge Administrator, (314) 269-2378.

SUPPLEMENTARY INFORMATION:

Request for Comments

We encourage you to participate in this rulemaking by submitting comments and related material. If you do so, please include your name and address, identify the docket number for this rulemaking [CGD08-06-013], indicate the specific section of this document to which each comment applies, and give the reason for each comment. Please submit all comments and related material in an unbound format, no larger than 81/2 by 11 inches, suitable for copying. If you would like to know they reached us, please enclose a stamped, self-addressed postcard or envelope. We will consider all comments and material received during the comment period. We may change this proposed rule in view of them.

Public Meeting

We do not now plan to hold a public meeting. But you may submit a request for a meeting by writing to the Eighth Coast Guard District, Bridge Branch, at the address under ADDRESSES explaining why one would be beneficial. If we determine that a meeting would aid this rulemaking, we will hold one at a time and place announced by a later notice in the Federal Register.

Regulatory History

On June 26, 2006, we published a notice of proposed rulemaking (NPRM) titled Drawbridge Operation Regulation; Illinois Waterway, IL in the Federal Register (71 FR 36295). We received no comments on the proposed rule. No public hearing was requested, and none was held.

Background and Purpose

A test period to remotely operate the Pekin Railroad Drawbridge, Mile 151.2, across the Illinois Waterway was proposed by the bridge owner and determined that remote operation was not feasible. The bridge owner withdrew the proposal and the Coast Guard required the continued on-site operation of the bridge. The bridge is not remotely operated. The bridge owner has always maintained an on-site bridge operator for the bridge. However, the temporary regulation allowing the test period was inadvertently published in 33 CFR 117, Subpart B.

This proposed rulemaking will correct the drawbridge operating regulations to reflect Coast Guard approved operating conditions presently adhered to by the bridge owner and waterway users.

33 CFR requires the Chessie Railroad Drawbridge, mile 254.1, Illinois Waterway at Seneca, Illinois to open on signal for the passage of vessels. Due to reduced train use, the bridge owner removed the bridgetender, maintains the draw span in the fully open position and allows train operators to close the bridge. This action was taken without proper Coast Guard notification or approval. The proposed rule would improve the navigation safety of bridge operations by establishing a method of operation and communication between vessels and bridge closure personnel.

Discussion of Proposed Rule

The rule proposed by this SNPRM includes two separate changes to existing regulation § 117.393. The first change would delete § 117.393(b), which requires remote operation of the Pekin Railroad Drawbridge. If the remote operation requirement is deleted, it will have no impact on river or rail traffic because the bridge will continue to be operated on-site and open on demand for passage of river traffic. Removing the regulation for remote operation will allow the bridge owner to not install additional equipment and to not operate the bridge from a remote location to meet the regulation.

The second change to § 117.393 would add a new paragraph (b) to § 117.393. The Chessie Railroad Drawbridge is currently maintained in the fully open position and train operators close the draw span to allow trains to pass. This proposed rule would improve the navigation safety of bridge operations by establishing a method of operation and communication between vessels and bridge closure personnel. This proposed rule will accurately depict how the bridge is operated.

Regulatory Evaluation

This proposed rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security.

The Coast Guard expects that these changes will have no economic impact on commercial traffic operating on the Illinois Waterway.

The proposed regulation changes will not affect the present safe operation of the bridges.

Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this rule would not have a significant economic impact on a substantial number of small entities.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L 104-121), we want to assist small entities in understanding this proposed rule so that they could better evaluate its effects on them and participate in the rulemaking. If the rule would affect your small business, organization, or governmental jurisdiction and you have questions concerning its provisions or options for compliance, please contact Mr. Roger K. Wiebusch, Bridge Administrator, Eighth Coast Guard District, Bridge Branch, at (314) 269-2378.

Collection of Information

This proposed rule would call for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule will not result in such an expenditure, we do discuss the effects of this rule elsewhere in this preamble.

Taking of Private Property

This proposed rule would not affect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and would not create an environmental risk to health or risk to safety that may disproportionately affect children.

Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This proposed rule does not use technical standards. Therefore, we did not consider the use of voluntary consensus standards.

Environment

We have analyzed this rule under Commandant Instruction M16475.1D, which guides the Coast Guard in complying with the National Environmental Policy Act of 1969 (NEPA) (42 U.S.C. 4321-4370f), and have concluded that there are no factors in this case that would limit the use of a categorical exclusion under section 2.B.2 of the Instruction. Therefore this rule is categorically excluded under figure 2-1, paragraph 32(e) of the Instruction from further environmental documentation. Paragraph 32(e) excludes the promulgation of operating regulations or procedures for drawbridges from the environmental documentation requirements of NEPA. Since this proposed regulation would alter the normal operating conditions of the drawbridge, it falls within this exclusion. A “Categorical Exclusion Determination” is available in the docket for inspection or copying where indicated under ADDRESSES.

List of Subjects in 33 CFR Part 117

Bridges.

Regulations

For the reasons discussed in the preamble, the Coast Guard proposes to amend 33 CFR part 117 as follows:

PART 117—DRAWBRIDGE OPERATION REGULATIONS

1. The authority citation for part 117 continues to read as follows:

Authority: 33 U.S.C. 499; 33 CFR 1.05-1(g); Department of Homeland Security Delegation No. 017.1; section 117.255 also issued under the authority of Pub. L. 102-587, 106 Stat. 5039.

2. Revise § 117.393(b) to read as follows:

§ 117.393 Illinois Waterway.

* * * * *

(b) The draw of the Chessie Railroad Bridge, mile 254.1, at Seneca, Illinois, operates as follows:

(1) The draw is normally maintained in the fully open position, displaying green mid-channel lights to indicate the span is fully open.

(2) When a train approaches the bridge and the draw is in the open position, the train will stop, train operator shall walk out on the bridge and scan the river for approaching vessels.

(3) If a vessel is approaching the bridge, the draw will remain open. The vessel shall contact the train operator on VHF-FM channel 16 and the train operator shall keep the draw in the fully open position until the vessel has cleared the bridge.

(4) If no vessels are observed, the train operator initiates a five minute warning period on VHF-FM radio channel 16 before closing the bridge. The train operator will broadcast the following message: “The Chessie Railroad Bridge at Mile 254.1, Illinois River, will close to navigation in five minutes.” The announcement is repeated every minute counting down the time remaining until closure.

(5) At the end of the five minute warning period, and if no vessels are approaching the bridge, the train operator shall sound the siren for 10 seconds, activate the alternate flashing red lights on top of the draw, then lower and lock the draw in place. Red lights shall continue to flash to indicate the draw is closed to navigation.

(6) After the train has cleared the bridge, the draw shall be raised to its full height and locked in place, the red flashing lights stopped, and the draw lights changed from red to green.

* * * * *

Dated: October 19, 2006.
Ronald W. Branch,
Captain, U.S. Coast Guard, Commander, 8th Coast Guard Dist. Acting.

[FR Doc. E6-19310 Filed 11-15-06; 8:45 am]

BILLING CODE 4910-15-P